DEPARTMENT OF ENERGY

Federal Energy Regulatory Commission

[Docket Nos. CP05-83-000, CP05-84-000, CP05-85-000, CP05-86-000]

Port Arthur LNG, L.P.; Port Arthur Pipeline, L.P.; Notice of Availability of the Draft Environmental Impact Statement and Draft General Conformity Determination for the Port Arthur LNG Project

August 26, 2005.

The staff of the Federal Energy Regulatory Commission (FERC or Commission) has prepared this draft Environmental Impact Statement (EIS) for the construction and operation of the liquefied natural gas (LNG) import terminal and natural gas pipeline facilities (referred to as the Port Arthur LNG Project or Project) as proposed by Port Arthur LNG, L.P. and Port Arthur Pipeline, L.P. (collectively Sempra) in the above-referenced dockets.

The draft EIS was prepared to satisfy the requirements of the National Environmental Policy Act (NEPA). The staff concludes that approval of the Port Arthur LNG Project, with appropriate mitigating measures as recommended, would have limited adverse environmental impact. The draft EIS evaluates alternatives to the proposal, including system alternatives, alternative sites for the LNG import terminal, and pipeline alternatives. The draft EIS also contains our draft General Conformity Analysis and Essential Fish Habitat Analysis.

The purpose of the Port Arthur LNG Project is to allow access to LNG supplies and thus provide a new, stable source of between 1.5 and 3.0 billion cubic feet per day of natural gas to supplement the diminishing supplies while utilizing, to the extent practicable, the existing natural gas pipeline infrastructure within the Gulf of Mexico region of the U.S.; and allow natural gas delivery to markets in the Midwestern and Northeastern markets by use of existing interstate natural gas pipeline systems. Sempra's proposed facilities would be constructed in two phases and would ultimately provide an average of 3.0 billion cubic feet per day of natural gas to the existing pipeline infrastructure in Texas and Louisiana, and to potential other end-users in the Midwestern and Northeastern natural gas markets.

The draft EIS addresses the potential environmental effects of the construction and operation of the following facilities in Jefferson and Orange Counties, Texas, and Cameron, Calcasieu, and Beauregard Parishes, Louisiana:

• A protected LNG unloading slip with ship maneuvering area (turning basin);

• LNG ship unloading system consisting of two berths each consisting of four 16-inch unloading arms and one 16-inch vapor return arm, mooring and breasting dolphins, gangway tower, firewater monitors, service utilities and associated valves and piping. LNG transfer from the ship to the on-shore storage system would be through two 36-inch-diameter unloading lines, one per berth. Each berth would be sized for an unloading rate of 17,500 cubic meters per hour (m³/hr); although, only one ship would be unloaded at a time during Phase I;

• LNG storage system consisting of a total of six full-containment LNG storage tanks each with a nominal capacity of 160,000 cubic meters (m³) (1,006,000 barrels). Each tank would be equipped with three can-type, fully submerged LNG in-tank pumps sized for 2,976 gallons per minute (gpm) each;

• Boil-off gas (BOG) recovery system consisting of 4 reciprocating BOG compressors each sized for 13,887 pounds per hour (lb/hr), four integrally geared return gas blowers, each sized for 32,228 lb/hr, and one direct-contact recondenser;

• LNG transfer system to transfer LNG from the recondenser to the send-out LNG vaporizers. The transfer system would consist of 16 pot-mounted LNG booster pumps (two being spares) each sized for 1,964 gpm;

• LNG vaporization system consisting of 12 shell-and-tube LNG vaporizers (two being spares) each sized for 0.305 Bcf/d. The heat source to the vaporizers would be heated water;

• Hot water heating system consisting of 8 gas-fired hot water heaters each sized for 348 million British thermal units per hour (MMBtu/hr) and 6 centrifugal hot water circulation pumps (two being spares) each sized for 11,727 gpm;

• Emergency vent system; LNG spill containment system; fire water system; fuel gas, nitrogen, instrument/plant air and service water utility systems; various hazard detection, control, and prevention systems; and cryogenic piping, electrical, and instrumentation systems;

• Utilities, buildings and support facilities; facilities for pig launchers and receivers; and metering facilities; and

• Approximately 73 miles of 36-inch-diameter natural gas pipeline and associated ancillary pipeline facilities.

Comment Procedures and Public Meetings

Any person wishing to comment on the draft EIS may do so. To ensure consideration prior to a Commission decision on the proposal, it is important that we receive your comments before the date specified below. Please carefully follow these instructions to ensure that your comments are received in time and properly recorded:

• Send an original and two copies of your comments to: Magalie R. Salas, Secretary, Federal Energy Regulatory Commission, 888 First Street, NE., Room 1A, Washington, DC 20426.

• Reference Docket No. CP05-83-000 et al.;

• Label one copy of the comments for the attention of Gas Branch 2, PJ11.2; and

• Mail your comments so that they will be received in Washington, DC on or before October 17, 2005.

Please note that we are continuing to experience delays in mail deliveries from the U.S. Postal Service. As a result, we will include all comments that we receive within a reasonable time frame in our environmental analysis of this Project. However, the Commission strongly encourages electronic filing of any comments or interventions to this proceeding. See 18 CFR 385.2001(a)(1)(iii) and the instructions on the Commission's Web site at http://www.ferc.gov under the “e-Filing” link and the link to the User's Guide. Before you can file comments you will need to create a free account, which can be created by clicking on “Login to File” and then “New User Account.”

In addition to or in lieu of sending written comments, we invite you to attend the public comment meetings we have scheduled as follows:

October 4, 2005, 7 p.m. (CST); VFW Post 9854, 222 Highway 109 S, Vinton, Louisiana, Telephone: (337) 589-5832.

October 5, 2005, 7 p.m. (CST); Holiday Inn Park Central, 2929 Jimmy Johnson Blvd., Port Arthur, Texas, Telephone: (409) 724-5000.

Interested groups and individuals are encouraged to attend and present oral comments on the environmental impact described in the draft EIS. Transcripts of the meeting will be prepared.

After these comments have been reviewed, any significant new issues are investigated, and modifications are made to the draft EIS, a final EIS will be published and distributed by the staff. The final EIS will contain the staff's responses to timely comments received on the draft EIS.

Comments will be considered by the Commission but will not serve to make the commentor a party to the proceeding. Any person seeking to become a party to the proceeding must file a motion to intervene pursuant to Rule 214 of the Commission's Rules of Practice and Procedures (18 CFR 385.214). Anyone may intervene in this proceeding based on this draft EIS. You must file your request to intervene as specified above.¹ You do not need intervener status to have your comments considered.

¹ Interventions may also be filed electronically via the Internet in lieu of paper. See the previous discussion on filing comments electronically.

The draft EIS has been placed in the public files of the FERC and is available for public inspection at: Federal Energy Regulatory Commission, Public Reference and Files Maintenance Branch, 888 First Street, NE., Room 2A, Washington, DC 20426, (202) 502-8371.

A limited number of copies of the draft EIS are available from the Public Reference and Files Maintenance Branch identified above. In addition, copies of the draft EIS have been mailed to Federal, State, and local agencies; elected officials; public interest groups; individuals and affected landowners who requested a copy of the draft EIS; and parties to these proceedings.

Additional information about the Project is available from the Commission's Office of External Affairs, at 1-866-208-FERC or on the FERC Internet Web site (http://www.ferc.gov) using the eLibrary link. Click on the “eLibrary” link, click on “General Search” and enter the docket number excluding the last three digits in the Docket Number field. Be sure you have selected an appropriate date range. For assistance, please contact FERC Online Support at: FERCOnlineSupport@ferc.gov or toll free at 1-866-208-3676, or for TTY at (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to the eSubscription link on the FERC Internet Web site.

Magalie R. Salas,
Secretary.

[FR Doc. E5-4811 Filed 9-1-05; 8:45 am]

BILLING CODE 6717-01-P